DEPARTMENT OF COMMERCE

National Oceanic and Atmospheric Administration

50 CFR Part 660

[Docket No. 0809231252-81272-01]

RIN 0648-AX28

Magnuson-Stevens Act Provisions; Fisheries Off West Coast States; Pacific Coast Groundfish Fishery; Biennial Specifications and Management Measures; Inseason Adjustments; Correction

AGENCY: National Marine Fisheries Service (NMFS), National Oceanic and Atmospheric Administration (NOAA), Commerce.

ACTION: Final rule; inseason adjustments to biennial groundfish management measures; correcting amendment.

SUMMARY: NMFS announces correction to Federal regulations for the West Coast groundfish fishery. This action corrects trip limits for vessels using multiple bottom trawl gears, which were published in a final rule. That final rule announced inseason changes to management measures in the commercial Pacific Coast groundfish fisheries. This correction is intended to eliminate any confusion for the public that may have occurred as a result of prior incorrect NMFS publications.

DATES: Effective 0001 hours (local time) October 7, 2008. Comments on this final rule must be received no later than 5 p.m., local time on November 6, 2008.

ADDRESSES: You may submit comments, identified by RIN 0648-AX28 by any one of the following methods:

• Electronic Submissions: Submit all electronic public comments via the Federal eRulemaking Portal http://www.regulations.gov.

• Fax: 206-526-6736, Attn: Gretchen Arentzen.

• Mail: D. Robert Lohn, Administrator, Northwest Region, NMFS, 7600 Sand Point Way NE, Seattle, WA 98115-0070, Attn: Gretchen Arentzen.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments. Attachments to electronic comments will be accepted in Microsoft Word, Excel, WordPerfect, or Adobe PDF file formats only.

FOR FURTHER INFORMATION CONTACT: Gretchen Arentzen (Northwest Region, NMFS), phone: 206-526-6147, fax: 206-526-6736 and e-mail gretchen.arentzen@noaa.gov.

SUPPLEMENTARY INFORMATION:

Electronic Access

This final rule is accessible via the Internet at the Office of the Federal Register's Website at http://www.gpoaccess.gov/fr/index.html. Background information and documents are available at the Pacific Fishery Management Council's website at http://www.pcouncil.org/.

Background

The Pacific Coast Groundfish FMP and its implementing regulations at title 50 in the Code of Federal Regulations (CFR), part 660, subpart G, regulate fishing for over 90 species of groundfish off the coasts of Washington, Oregon, and California. Groundfish specifications and management measures are developed by the Pacific Fishery Management Council (Council), and are implemented by NMFS. A proposed rule to implement the 2007-2008 specifications and management measures for the Pacific Coast groundfish fishery and Amendment 16-4 of the FMP was published on September 29, 2006 (71 FR 57764). The final rule to implement the 2007-2008 specifications and management measures for the Pacific Coast Groundfish Fishery was published on December 29, 2006 (71 FR 78638). These specifications and management measures are codified in the CFR (50 CFR part 660, subpart G). The final rule was subsequently amended on: March 20, 2007 (71 FR 13043); April 18, 2007 (72 FR 19390); July 5, 2007 (72 FR 36617); August 3, 2007 (72 FR 43193); September 18, 2007 (72 FR 53165); October 4, 2007 (72 FR 56664); December 4, 2007 (72 FR 68097); December 18, 2007 (72 FR 71583); April 18, 2008 (73 FR 21057); and July 24, 2008 (73 FR 43139).

The July 24, 2008 final rule implemented inseason adjustments to groundfish management measures to respond to updated fishery information and other inseason management needs, effective August 1, 2008 (73 FR 43139). This final rule, in part, adjusted trip limits in the limited entry non-whiting trawl fishery North of 40°10.00' N. lat. NMFS accepted public comments on this final rule through August 25, 2008. No comments were received regarding this final rule.

Multiple types of bottom trawl gear are used in this sector of the fishery, including large footrope and small footrope trawl gears. Trip limits for some species, presented in Table 3 (North) to part 660 subpart G, are gear-specific due to differences in selectivity. Providing differential trip limits based on gear selectivity is a management measure that is designed to meet the Pacific Coast Groundfish FMP objective of achieving, to the extent possible, but not exceeding, OYs of target species, while fostering the rebuilding of depleted stocks by remaining within their rebuilding OYs.

In the northern bottom trawl fishery, which is structured around gear-specific cumulative trip limits, use of multiple gear types during a single trip has required the designation of cumulative trip limits on trips in which multiple types of gears are used or are on board the fishing vessel. This is useful for enforcement of cumulative trip limits, and catch accounting. Regulations that define cumulative trip limits, if more than one type of trawl gear is on board the vessel, are at 50 CFR 660.381 (c)(4)(i)(D). In these regulations, vessels with multiple trawl gears on board at any time during the cumulative limit period are subject to the smaller of the limits, for the gears on board, for that entire cumulative limit period. In addition to this text description in the regulations, Table 3 (North) provides the numerical value for the most restrictive gear-specific trip limits in a line titled “multiple bottom trawl gears”. An additional description is provided in the 8th footnote to that table.

In the July 24, 2008 inseason final rule, gear specific trip limits for sablefish and Dover sole, taken by vessels using selective flatfish trawl gear, were raised from August 1 through the remainder of the year, consistent with the recommendation by the Council at its June 6-13, 2008, meeting in Foster City, California. For these species, gear-specific trip limits for vessels using selective flatfish trawl gear are the most restrictive. Therefore, the lines in Table 3 (North) describing the “multiple bottom trawl gears” trip limits for these species should be equal to the selective flatfish trawl limits over the entire year. The numerical value for “multiple bottom trawl gears”, which should be equal to the cumulative limits for selective flatfish trawl gear, were not increased. An oversight created an inconsistency between the most restrictive gear-specific cumulative trip limits, which are repeated in lines 14 and 26 in Table 3 (North), and described in the table's 8th footnote and the regulations at § 660.381. This correction publishes Table 3 (North) with numerical values in the lines defining cumulative trip limits for vessels using “multiple bottom trawl gears” corrected to reflect the most restrictive gear-specific cumulative trip limits for sablefish and Dover sole, consistent with the table's 8th footnote, regulatory text at § 660.381(c)(4)(i)(D), and the Council's June recommendations for inseason modifications to cumulative trip limits.

Classification

The Assistant Administrator for Fisheries (AA), NOAA, finds good cause to waive the requirement to provide prior notice and opportunity for public comment on this action pursuant to 5 U.S.C. 553(b)(B); providing prior notice and opportunity for comment would be contrary to the public interest.

This correction document revises Table 3 (North) to part 660, subpart G of the Code of Federal Regulations so that the cumulative trip limits for vessels using “multiple bottom trawl gears”, taking and retaining sablefish and Dover sole, are consistent with regulations at § 660.381(c)(4)(i)(D). Allowing inconsistencies caused by an oversight to remain in the Federal Register would be contrary to the public interest. It would leave language in the CFR that implies that trip limits for vessels using multiple trawl gear are unnecessarily lower than described in the regulatory text, and are unnecessarily lower than the most restrictive gear-specific cumulative trip limit shown in Table 3 (North). This correction is intended to allow increased harvest opportunities for healthy groundfish stocks, so that NMFS may meet its obligations under the Groundfish FMP to achieve, to the extent possible, the OYs of target species. Failing to meet this obligation as quickly as possible would be contrary to the public interest, as it would unnecessarily restrict cumulative trip limits for vessels using multiple bottom trawl gears. The use of cumulative trip limits for vessels using multiple bottom trawl gears were analyzed in the 2005-2006 groundfish specifications and management measures Environmental Impact Statement and clearly described in the preamble to the inseason final rule, implemented on April 1, 2005 (70 FR 16145, March 30, 2005). Prior notice and opportunity for comment was provided earlier because both the EIS and the final rule were made available for public comment, and no comments were received pertaining to the representation of “multiple bottom trawl gear” cumulative trip limits in Table 3 (North).

The AA also finds good cause to waive the 30-day delay in the effective date of this action under 5 U.S.C. 553(d)(3). This finding is based on the reasons provided above for waiver of prior notice and opportunity for public comment.

List of Subjects in 50 CFR Part 660

Fishing, Fisheries, and Indian Fisheries.

Dated: October 1, 2008.
James W. Balsiger,
Acting Assistant Administrator For Fisheries, National Marine Fisheries Service.

For the reasons set out in the preamble, 50 CFR part 660 is amended as follows:

PART 660—FISHERIES OFF WEST COAST STATES

1. The authority citation for part 660 continues to read as follows:

Authority: 16 U.S.C. 1801 et seq.

2. Table 3 (North) to part 660 subpart G is revised to read as follows:

BILLING CODE 3510-22-S

[FR Doc. E8-23722 Filed 10-6-08; 8:45 am]

BILLING CODE 3510-22-C